Title 3—

The President

Memorandum of January 5, 2007

Assignment of Functions Regarding the Citizens Health Care Working Group

Memorandum for the Secretary of Health and Human Services

By virtue of authority vested in me as President by the Constitution and laws of the United States, including section 301 of title 3 of the United States Code, the functions of the President under section 1014(o)(1) of the Medicare Prescription Drug, Improvement, and Modernization Act of 2003 (Public Law 108-173) are assigned to the Secretary of Health and Human Services.

You are authorized and directed to publish this memorandum in the Federal Register.

THE WHITE HOUSE,

Washington, January 5, 2007.

[FR Doc. 07-67

Filed 1-8-07; 11:11 am]

Billing code 4110-60-M